DEPARTMENT OF THE INTERIOR

Office of Natural Resources Revenue

30 CFR Part 1217

[Docket No. ONRR-2022-0001; DS63644000 DRT000000.CH7000 223D1113RT]

RIN 1012-AA32

Electronic Provision of Records During an Audit; Correction

AGENCY: Office of Natural Resources Revenue (“ONRR”), Interior.

ACTION: Final rule; correction.

SUMMARY: On August 9, 2023, ONRR published a final rule amending its regulations to allow ONRR and other authorized Department of the Interior (“Department”) representatives the option to require that an auditee use electronic means to provide records requested during an audit of an auditee's royalty reporting and payment. The final rule used a subpart that was designated reserved. This document corrects the final regulations by adding the subpart.

DATES: Effective on September 8, 2023.

FOR FURTHER INFORMATION CONTACT: For questions concerning this final rulemaking, contact Ginger Hensley, Regulatory Specialist, by phone at 303-231-3171, or by email at ONRR_RegulationsMailbox@onrr.gov.

SUPPLEMENTARY INFORMATION: ONRR published a final rule in the Federal Register on August 9, 2023 (88 FR 53790). ONRR amended a reserved subpart under part 1217, subpart A, without including instructions to add the subpart. Accordingly, the final rule is corrected by making the following correcting amendments.

Federal Register Correction

Effective September 8, 2023, in rule document 2023-17059 at 88 FR 53790 in the issue of August 9, 2023, on page 53793, in the first column, amendatory instruction 8 and the accompanying regulatory text are corrected to read as follows:

§ 1217.10 [Corrected]

8. Add subpart A, consisting of § 1217.10, to read as follows:

Subpart A—General Provisions

§ 1217.10 Providing records during an audit.

(a) ONRR or an authorized State or Tribe may specify the method an auditee must use to provide records for all audits conducted under this chapter, statute, or agreement. The methods may include one or more of the following:

(1) Inspect records at an auditee's place of business during normal business hours;

(2) Send records using secure electronic means. When requesting that records be provided electronically, ONRR or the authorized State or Tribe will specify the format in which the records shall be produced, directions for electronic transmission, and instructions to ensure secure transmission; or

(3) Deliver hard copy records using the U.S. Postal Service, special courier, overnight mail, or other delivery service to an address specified by ONRR or an authorized State or Tribe.

(b) [Reserved]

Howard Cantor,
Director, Office of Natural Resources Revenue.

[FR Doc. 2023-17568 Filed 8-15-23; 8:45 am]

BILLING CODE 4335-30-P